DEPARTMENT OF ENERGY

Federal Energy Regulatory Commission

[Project No. 3309-021]

Marlow Hydro, LLC; Notice of Effectiveness of Withdrawal of License Application

On December 1, 2020, Marlow Hydro, LLC (Marlow Hydro) filed an application for a subsequent license for the 225-kilowatt Nash Mill Dam Hydroelectric Project No. 3309. On May 5, 2020, Marlow Hydro filed a notice of withdrawal of its application.

No motion in opposition to the notice of withdrawal has been filed, and the Commission has taken no action to disallow the withdrawal. Pursuant to Rule 216(b) of the Commission's Rules of Practice and Procedure,¹ the withdrawal of the application became effective on May 21, 2021, and this proceeding is hereby terminated.

¹ 18 CFR 385.216(b) (2020).

Dated: May 21, 2021.
Kimberly D. Bose,
Secretary.

[FR Doc. 2021-11337 Filed 5-27-21; 8:45 am]

BILLING CODE 6717-01-P